DEPARTMENT OF JUSTICE

Office of Justice Programs

[OJP (OJP) Docket No. 1783]

Notice of Charter Renewal of the Global Justice Information Sharing Initiative Advisory Committee (GAC)

AGENCY: Global Justice Information Sharing Initiative Advisory Committee (GAC).

ACTION: Notice of charter renewal.

SUMMARY: Notice that the charter of the Global Justice Information Sharing Initiative Advisory Committee (GAC) has been renewed.

FOR FURTHER INFORMATION CONTACT: Visit the website for the Advisory Committee at https://it.ojp.gov/global/ or contact Tracey Trautman, Designated Federal Official (DFO), BJA, by telephone at (202) 305-1491 (not a toll-free number) or via email: tracey.trautman@ojp.usdoj.gov.

SUPPLEMENTARY INFORMATION: This Federal Register notice notifies the public that the Charter of the Global Justice Information Sharing Initiative Advisory Committee (GAC) has been renewed in accordance with the Federal Advisory Committee Act, Section 14(a)(1). The renewal Charter was signed by U.S. Attorney General William P. Barr on July 7, 2020. One can obtain a copy of the renewal Charter by accessing the Global Justice Information Sharing Initiative Advisory Committee (GAC)'s website at https://it.ojp.gov/global.

Michael Costigan,
Acting Director, Bureau of Justice Assistance, Office of Justice Programs.

[FR Doc. 2020-16596 Filed 7-30-20; 8:45 am]

BILLING CODE 4410-18-P